ENVIRONMENTAL PROTECTION AGENCY

[FRL-7873-2]

National Advisory Council for Environmental Policy and Technology, Environmental Technologies Subcommittee

AGENCY: Environmental Protection Agency (EPA).

ACTION: Notice of meeting.

SUMMARY: Under the Federal Advisory Committee Act, Public Law 92463, EPA gives notice of a meeting of the Environmental Technologies Subcommittee of the National Advisory Council for Environmental Policy and Technology (NACEPT). NACEPT provides advice and recommendations to the Administrator of EPA on a broad range of environmental policy, technology, and management issues. The Environmental Technologies Subcommittee was formed to assist EPA in evaluating its current and potential role in the development and commercialization of environmental technologies by suggesting how to optimize existing EPA programs to facilitate the development of sustainable private sector technologies, and by suggesting alternative approaches to achieving these goals. The purpose of the meeting is to continue the Subcommittee's consideration of these issues.

DATES: The NACEPT Environmental Technologies Subcommittee will hold a two day public meeting on Thursday, March 3, from 9 a.m. to 5 p.m. and Friday, March 4, from 8:30 a.m. to 3 p.m.

ADDRESSES: The meeting will be held at the Hilton Old Town Alexandria, 1767 King Street, Alexandria, Virginia. The meeting is open to the public, with limited seating on a first-come, first-served basis.

SUPPLEMENTARY INFORMATION: Requests to make oral comments or provide written comments to the Council should be sent to Mark Joyce, Designated Federal Officer, at the contact information below. The public is welcome to attend all portions of the meeting.

FOR FURTHER INFORMATION CONTACT: Mark Joyce, Designated Federal Officer, joyce.mark@epa.gov, 202-233-0068, U.S. EPA, Office of Cooperative Environmental Management (1601E), 1200 Pennsylvania Avenue NW., Washington, DC 20460.

Meeting Access: Individuals requiring special accommodation at this meeting, including wheelchair access, should contact Mark Joyce at least five business days prior to the meeting so that appropriate arrangements can be made.

Dated: February 9, 2005.
Sonia Altieri,
Designated Federal Official.

[FR Doc. 05-2896 Filed 2-14-05; 8:45 am]

BILLING CODE 6560-50-P